DEPARTMENT OF ENERGY

Federal Energy Regulatory Commission

[Project No. 11810-000]

Augusta Canal Hydro Power Project; Notice of Convening Conference

April 4, 2003.

Pursuant to rule 601 of the Commission's Rules of Practice and Procedure, 18 CFR 385.601, the Dispute Resolution Service will convene a conference on Monday and Tuesday, April 14th and 15th, 2003, to primarily discuss agency comments on the draft license application and other issues as required by the consultative part of the Commission's licensing requirements for the City of Augusta. The meeting will discuss how alternative dispute resolution processes and procedures may assist the participants in resolving disputes arising in the above-docketed proceeding. The conference will be held at Savannah Rapids Pavilion which is located at the terminus of Evans to Locks Rd. in Columbia County, GA, at the site of the Augusta Diversion Dam, beginning at 9 a.m. on April 14 and ending at approximately 4 p.m. on April 15.

Interested parties are invited to inform Mr. Shapiro, identified below, prior to April 10, 2003, of other issues and concerns that need to be addressed and to see about scheduling these into the process.

Mr. Steven A. Shapiro, acting for the Dispute Resolution Service, will convene the conference. He will be available to communicate in private with any participant prior to the conference. If a participant has any questions regarding the conference, please call Mr. Shapiro at 202/502-8894 or e-mail to Steven.Shapiro@ferc.gov. Parties may also communicate with Richard Miles, the Director of the Commission's Dispute Resolution Service at 1-877-FERC-ADR (337-2237) or 202/502-8702 and his e-mail address is Richard.Miles@ferc.gov.

Magalie R. Salas,
Secretary.

[FR Doc. 03-8979 Filed 4-10-03; 8:45 am]

BILLING CODE 6717-01-P